DEPARTMENT OF DEFENSE

Defense Logistics Agency

Proposed Collection; Comment Request

AGENCY: Defense Logistics Agency, Defense Reutilization and Marketing Service.

ACTION: Notice.

In compliance with Section 3506(C)(2)(A) of the Paperwork Reduction Act of 1995, the Defense Logistics Agency, Defense Reutilization and Marketing Service, announces the proposed reinstatement of a public information collection and seeks public comment on the provisions thereof. Comments are invited on: (a) whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 24, 2000.

ADDRESSES: Written comments and recommendations on the proposed information collection should be sent to Commander, Defense Reutilization and Marketing Service, ATTN: Mr. Jim Jasper, 74 Washington Ave. N., Battle Creek, MI 49017-3092.

FOR FURTHER INFORMATION CONTACT: To request more information on this proposed information collection or to obtain a copy of the proposal and associated collection instruments, please write to the above address, or call DRMS, Office of Quality, at (616) 961-7233.

Title, Associated Form, and OMB Number: Defense Reutilization and Marketing Service Customer Comment Card, OMB NO. 0704-0394.

Needs and Uses: The information collection requirement is necessary to obtain customer rating and comments on the service of a Defense Reutilization and Marketing store.

Affected Public: Individuals; business or other for profit; not-for-profit institutions; state, local or tribal government.

Annual Burden Hours: 200.

Number of Respondents: 800.

Responses per Respondent: 1.

Average Burden per Response: 15 minutes.

Frequency: On occasion.

Supplementary Information:

Summary of Information Collection

Respondents are customers who obtain, or visit a store to obtain, surplus or excess property. The customer comment card is a means for customers to rate and comment on aspects of the store's appearance, as an agent for service improvement and determining whether there is a systemic problem.

Dated: February 16, 2000.
L.M. Bynum,
Alternate OSD Federal Register Liaison Officer, Department of Defense.

[FR Doc. 00-4283 Filed 2-23-00; 8:45 am]

BILLING CODE 5001-10-M